DEPARTMENT OF ENERGY

Federal Energy Regulatory Commission

[Project No. 13318-002]

Swan Lake North Hydro, LLC; Notice of Preliminary Permit Application Accepted For Filing and Soliciting Comments, Motions to Intervene, and Competing Applications

On April 3, 2012, Swan Lake North Hydro, LLC, filed an application for a successive preliminary permit, pursuant to section 4(f) of the Federal Power Act (FPA), proposing to study the feasibility of the Swan Lake North Pumped Storage Hydroelectric Project (project) to be located near Klamath Falls in Klamath County, Oregon and Newell in Modoc County, California. The sole purpose of a preliminary permit, if issued, is to grant the permit holder priority to file a license application during the permit term. A preliminary permit does not authorize the permit holder to perform any land-disturbing activities or otherwise enter upon lands or waters owned by others without the owners' express permission.

The proposed project would consist of the following new facilities: (1) Two 111-foot-high, 6,560-foot-long (east) and 5.990-foot-long (west) rockfill dams enclosing an upper reservoir; (2) an upper reservoir with a surface area of 215 acres and a storage capacity of 10,622 acre-feet at a maximum surface elevation of 5,491 feet above mean sea level (msl); (3) a 100-foot-high, 5,245-foot-long rockfill main dam and a 9-foot-high, 360-foot-long rockfill saddle dam enclosing a lower reservoir; (4) a lower reservoir with a surface area of 193 acres and a storage capacity of 11,583 acre-feet at a maximum surface elevation of 4,275 feet msl; (5) a 30-foot-diameter, 2,570-foot-long horizontal power tunnel; (6) a 30-foot-diameter, 1,200-foot-long vertical shaft; (7) a 30-foot-diameter, 1,000-foot-long high pressure steel-lined penstock branching into four 12.25-foot-diameter, 640-foot-long steel-lined penstocks going into the underground powerhouse: (8) an underground powerhouse with four 250-megawatt (MW) reversible pump-turbine units with a total installed capacity of 1,000 MW; (9) four 12.5-foot-diameter manifold branches that will combine into a single 26-foot-diameter, 5,000-foot-long, partially steel-lined and partially concrete-lined tailrace tunnel; (10) a tailrace inlet/outlet structure consisting of a concrete-lined approach channel, trash racks, and two vertically controlled slide gates; (11) a 30-foot-diameter, 3,600-foot-long access tunnel; (12) a permanent 24-foot-wide, 3.5-mile-long haul road; (13) approximately 33 miles of 500-kilovolt (kV) transmission line connecting to a terminal switchyard to be constructed adjacent to the existing California Oregon Transmission Project 500-kV line in California; and (14) appurtenant facilities. The project would be a closed-loop system using groundwater and would not use any existing surface body of water. The estimated annual generation of the project would be 2,630 gigawatt-hours.

Applicant Contact: Mr. Brent L. Smith, COO, Symbiotics LLC, 811 SW Naito Parkway, Ste. 120, Portland, OR 97204; phone: (503) 235-3424.

FERC Contact: Kelly Wolcott; phone: (202) 502-6480.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-13318) in the docket number field to access the document. For assistance, contact FERC Online Support.

Dated: May 22, 2012.
Kimberly D. Bose,
Secretary.

[FR Doc. 2012-13001 Filed 5-29-12; 8:45 am]

BILLING CODE 6717-01-P